NATIONAL COUNCIL ON DISABILITY

Sunshine Act Meetings

TIME AND DATES: The Members of the National Council on Disability (NCD) will hold a quarterly meeting on Thursday, March 8, from 9:00 a.m.-5:00 p.m., Eastern Time, in Washington, DC.

PLACE: This meeting will occur in Washington, DC, at the Access Board Conference Room, 1331 F Street NW, Suite 800, Washington, DC 20004. Interested parties may join the meeting in person at the meeting location or may join by phone in a listening-only capacity (other than the period allotted for public comment noted below) using the following call-in information: Teleconference number: 1-888-599-8667; Conference ID: 9890793; Conference Title: NCD Meeting; Host Name: Clyde Terry.

MATTERS TO BE CONSIDERED: The Council will receive agency updates on policy projects, finance, governance, and other business. The Council will receive an update on the work done to date for its 2018 Progress Report to Congress and the President, which this year will focus on monitoring and enforcement efforts in three federal agencies. The Council will next release its latest report titled, “U.S. Foreign Policy and Disability 2017: Progress and Promise” with a summary of the report followed by a respondent panel. The Council will then revisit its 2017 Progress Report, which explored the intersection of disability and poverty, and receive public comments on which of the report's recommendations are of greatest importance for NCD's immediate follow-up activities. Following the public comment, the Council will discuss future 2018 policy activity building off of the 2017 Progress Report. The Council will conclude its meeting with a policy panel including representatives from the U.S. Department of Justice (invited), who have been asked to speak about recent ADA regulation rescissions as well as their work in the area of service animals.

AGENDA: The times provided below are approximations for when each agenda item is anticipated to be discussed (all times Eastern):

Thursday, March 8

9:00-9:30 a.m.—Welcome and introductions

9:30-10:15 a.m.—2018 Progress Report update and discussion

10:15-10:30 a.m.—Break

10:30-11:30 a.m.—Foreign policy report release and respondent panel

11:30 a.m.-12:00 p.m.—NCD business meeting

12:00-12:15 p.m.—Training on Council Member time reports

12:15-1:45 p.m.—LUNCH BREAK

1:45-2:00 p.m.—Recap of 2017 Progress Report (intersection of poverty and disability)

2:00-2:30 p.m.—Public comments (focused on recommendations of the 2017 NCD Progress Report on poverty)

2:30-2:45 p.m.—BREAK

2:45-3:45 p.m.—Policy recommendations for FY 2018 building off 2017 Progress Report

3:45-5:00 p.m.—Panel of Department of Justice representatives regarding rescinded ADA regulations and agency activities regarding service animals (invited)

5:00 p.m.—Adjourn

PUBLIC COMMENT: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, March 7, 2018. Priority will be given to those individuals who are in-person to provide their comments during the public comment period. Those commenters on the phone will be called on per the list of those registered via email. Due to time constraints, NCD asks all commenters to limit their comments to three minutes. Comments received at the March quarterly meeting will be limited to those regarding the public's input on which of the 2017 NCD Progress Report's recommendations are of greatest importance for NCD's immediate follow-up activities in 2018.

CONTACT PERSON FOR MORE INFORMATION: Anne Sommers, NCD, 1331 F Street NW, Suite 850, Washington, DC 20004; 202-272-2004 (V), 202-272-2074 (TTY).

ACCOMMODATIONS: A CART streamtext link has been arranged for this meeting. The web link to access CART on Thursday, March 8, 2018 is: http://www.streamtext.net/player?event=NCD-QUARTERLY.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: February 6, 2018.
Deb Cotter,
Executive Director.

[FR Doc. 2018-02597 Filed 2-6-18; 11:15 am]

BILLING CODE 8421-03-P